DEPARTMENT OF THE INTERIOR

National Park Service

[NPS-WASO-NAGPRA-NPS0038008; PPWOCRADN0-PCU00RP14.R50000]

Notice of Inventory Completion: San Diego State University, San Diego, CA

AGENCY: National Park Service, Interior.

ACTION: Notice.

SUMMARY: In accordance with the Native American Graves Protection and Repatriation Act (NAGPRA), San Diego State University (SDSU) has completed an inventory of human remains and associated funerary objects and has determined that there is a cultural affiliation between the human remains and associated funerary objects and Indian Tribes or Native Hawaiian organizations in this notice.

DATES: Repatriation of the human remains and associated funerary objects in this notice may occur on or after July 3, 2024.

ADDRESSES: Jaime Lennox, San Diego State University, 5500 Campanile Drive, San Diego, CA 92182, telephone (619)594-4575, email jlennox@sdsu.edu.

SUPPLEMENTARY INFORMATION: This notice is published as part of the National Park Service's administrative responsibilities under NAGPRA. The determinations in this notice are the sole responsibility of SDSU, and additional information on the determinations in this notice, including the results of consultation, can be found in the inventory or related records. The National Park Service is not responsible for the determinations in this notice.

Abstract of Information Available

Based on the information available, human remains representing, at least, two individuals have been reasonably identified. The 16,994 associated funerary objects are: 8,244 shell fragments and beads; 4,027 lithic fragments and tools; 36 ceramic sherds; 980 charcoal fragments; 1,082 fire affected rock fragments; 116 groundstone fragments; 2,449 faunal fragments; 15 asphaltum fragments; two ochre fragments; two glass fragments; one soil sample; one concretion fragment; six wood fragments; and 33 non-cultural stones. Site SDI-18009 (Lomas Santa Fe) is located in San Diego County, CA, and was excavated by environmental consultants David Smith and Associates in 1972. SDSU received the collection resulting from this excavation in 1973 and was accessioned into the SDSU assemblage as CMP-SDSU-0025.

Based on the information available, human remains representing, at least, one individual have been reasonably identified. The 3,588 associated funerary objects are: 3,530 faunal fragments; 41 shell fragments; and 17 vegetal fragment. Site SDI-5443 (W-654; Rimbach/Sorrento Valley; Lion Research Site; Village of Ystagua) is located in San Diego County, CA. SDSU received the collection removed from SDI-5443 at an unknown date by an unknown individual and was accessioned into the SDSU assemblage as CMP-SDSU-0819.

Based on the information available, human remains representing, at least, one individual have been reasonably identified. The 952 associated funerary objects are 942 faunal fragments and 10 shell fragments. Site SDI-4513/SDI-4609/SDI-5443 (W-654; 1992-17; Rimbach/Sorrento Valley; Lion Research Site; Village of Ystagua) is located in San Diego County, CA. SDSU received the collection removed from SDI-4513/SDI-4609/SDI-5443 at an unknown date by an unknown individual and was accessioned into the SDSU assemblage as CMP-SDSU-0822.

Based on the information available, human remains representing, at least, nine individuals have been reasonably identified. The 16,818 associated funerary objects are: 117 vegetal flotation samples; three floral samples; 159 ochre fragments; 176 baked clay fragments; 110 wood fragments; 22 mica fragments; 14 graphite fragments; 85 lots of charcoal fragments; 17 unidentified vegetal fragments; one steatite fragment; two sand concentrations; one insect husk; one seed; 6,446 lithics; 395 groundstone fragments; one metate; 3,665 faunal fragments; 4,828 ceramic sherds; 16 soil samples; 80 fire affected rock fragments; 44 shell beads and fragments; and 635 historic items including glass sherds, metal fragments and nails. Site SDI-945 (W-835; Cuyamaca Rancho State Park) is located in San Diego County, CA. The collection removed from site SDI-945 resulted from a 1999 archaeological field school conducted by SDSU. The collection was accessioned into the SDSU assemblage as CMP-SDSU-0824.

Cultural Affiliation

Based on the information available and the results of consultation, cultural affiliation is reasonably identified by the geographical location or acquisition history of the human remains and associated funerary objects described in this notice.

Determinations

SDSU has determined that:

• The human remains described in this notice represent the physical remains of 13 individuals of Native American ancestry.

• The 38,352 objects described in this notice are reasonably believed to have been placed intentionally with or near individual human remains at the time of death or later as part of the death rite or ceremony.

• There is a reasonable connection between the human remains and associated funerary objects described in this notice and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2024. If competing requests for repatriation are received, SDSU must determine the most appropriate requestor prior to repatriation. Requests for joint repatriation of the human remains and associated funerary objects are considered a single request and not competing requests. SDSU is responsible for sending a copy of this notice to the Indian Tribes and Native Hawaiian organizations identified in this notice.

Authority: Native American Graves Protection and Repatriation Act, 25 U.S.C. 3003, and the implementing regulations, 43 CFR 10.10.

Dated: May 22, 2024.
Melanie O'Brien,
Manager, National NAGPRA Program.

[FR Doc. 2024-12068 Filed 5-31-24; 8:45 am]

BILLING CODE 4312-52-P